DEPARTMENT OF TRANSPORTATION

Federal Transit Administration

Intent To Prepare Environmental Impact Statement on Transportation Improvements Within the Blue Line Extension Corridor in Suburban Cleveland, Ohio

AGENCY: Federal Transit Administration (FTA), DOT.

ACTION: Notice of intent to prepare an environmental impact statement.

SUMMARY: The Federal Transit Administration (FTA) is issuing this notice to advise interested agencies and the public that an environmental impact statement is being prepared for transportation improvements in the Blue Line Extension Corridor in suburban Cleveland, Ohio.

DATES: Comment Due Date: Written comments on the scope of the alternatives and impacts to be considered should be sent to Richard Enty, Team Leader, by April 10, 2000.

Scoping Meetings: A public scoping meeting will be held on Thursday, March 9, 2000, from 7 p.m. to 9 p.m., and an interagency scoping meeting will be held on Wednesday, March 1, 2000, from 9:30 a.m. to 11:30 a.m. See ADDRESSES below.

ADDRESSES: Written comments on the scope should be sent to Richard Enty, Team Leader, Greater Cleveland Regional Transit Authority (RTA), 1240 West 6th Street, Cleveland, Ohio 44113-1331. Phone: (216) 566-5260. Fax (216) 781-4726. Scoping meetings will be held at the following locations:

Public Scoping: Thursday, March 9, 2000, from 7 p.m. to 9 p.m., Beachwood City Hall, 2700 Richmond Road, Beachwood, Ohio 44122

Interagency Scoping: Wednesday, March 1, 2000, from 9:30 a.m. to 11:30 a.m., Greater Cleveland Regional Transit Authority, 1240 West 6th Street, Cleveland, Ohio 44113-1331

For additional information about the scoping meetings, contact Richard Enty whose address and phone number are given above.

FOR FURTHER INFORMATION CONTACT: Mr. Carlos Pena , Federal Transit Administration Region 5, 200 West Adams Street, Suite 2410, Chicago, Illinois 60606; Telephone: (312) 353-2865.

SUPPLEMENTARY INFORMATION: The Federal Transit Administration (FTA), the federal lead agency, in cooperation with the Greater Cleveland Regional Transit Authority (RTA), the local lead agency, is preparing an environmental impact statement (EIS) for proposed transportation improvements in the Blue Line Extension Corridor and adjacent areas. The transportation improvements are being defined through a Major Investment Study (MIS) conducted in conjunction with the development of the environmental impact statement. Issues and alternatives will be identified through a scoping process in accordance with the regulations implementing the National Environmental Policy Act (NEPA) of 1969, as amended. The scoping process will include the identification and evaluation of alternative design concepts and scopes, and provide the basis for the selection of a preferred design concept and scope for inclusion in the metropolitan transportation plan. Subsequently, alternative alignments and designs that are consistent with the selected concept and scope will be addressed in the EIS. It is important to note that a final decision to prepare an EIS has not been made at this time. This decision will be made at the end of the major investment study, and will depend upon the nature of the selected concept and its expected impacts.

I. Scoping

RTA will hold a public scoping meeting on Thursday, March 9, 2000, between 7:00 p.m. and 9:00 p.m. at Beachwood City Hall, 2700 Richmond Road, Beachwood, Ohio 44122. FTA and RTA invite interested individuals, organizations, and public agencies to attend the scoping meeting and participate in establishing the purpose, alternatives, schedule, and analysis approach, as well as an active public involvement program. The public is invited to comment on the alternatives to be addressed, the modes and technologies to be evaluated, the alignments and termination points to be considered, the environmental, social, and economic impacts to be analyzed, and the evaluation approach to be used to select a locally preferred alternative. The scoping meeting location is accessible and will include interpretive services for the hearing impaired.

An interagency scoping meeting will be held on Wednesday, March 1, 2000, from 9:30 a.m. to 11:30 a.m. at the Greater Cleveland Regional Transit Authority, 1240 West 6th Street, Cleveland, Ohio 44113-1331. Interested federal, state, and local public agencies, municipal officials and members of the Blue Line Study Project Scoping Committee are invited.

To ensure that a full range of issues is addressed and all significant issues are identified, comments and suggestions are invited from all interested parties. Comments or questions should be directed to the RTA at the address provided above.

II. Description of Study Area and Its Transportation Needs

The Blue Line Extension Corridor is located in southeastern suburbs of Cleveland, extending eastward approximately three miles from the existing terminus of the Blue Line at Van Aken and Warrensville Road in Shaker Heights, to the vicinity of I-271. The Corridor is approximately two miles wide, from Chagrin Blvd. on the north to Emery Road on the south. It includes portions of eight municipalities: City of Shaker Heights, City of Beachwood, City of Pepper Pike, City of Warrensville Heights, City of North Randall, Village of Highland Hills, Village of Orange, and Village of Woodmere. Two municipalities (Orange and Pepper Pike) are primarily residential, while the others are a mix of residential, office and retail. A more extensive “study area” is being considered for purposes of examining impacts of alternatives.

The largest single landowner in the corridor is the City of Cleveland. The City is developing one property itself: Cleveland Enterprise Park (recently renamed Mill Creek Enterprise Park), a 113 acre office park within the Village of Highland Hills. The City's other property, about 600 acres called Chagrin Highlands, is being developed by the Richard E. Jacobs Group under a master development agreement that provides for corporate headquarters and office park with supporting hotel and retail development. Additionally, the City of Cleveland has joint economic development agreements with three of the four communities in which Cleveland's property is located: Beachwood, Warrensville Heights, and Orange. There are a number of other public and private development sites in the corridor.

The corridor has a diverse mix of major institutions on relatively large sites, including Cuyahoga Community College, major medical institutions and facilities, a regional shopping mall and a number of large shopping centers, major office developments, a thoroughbred racetrack, a public golf course, cemeteries, and a variety of small businesses.

The area is served by a number of bus lines, two Interstate highways (I-271 and I-480), a U.S. highway, state highways, and county roads. These existing transportation facilities are under the jurisdiction of the Greater Cleveland Regional Transit Authority, the Ohio Department of Transportation and Cuyahoga County.

For central city residents, the corridor development creates new employment opportunities, but these jobs are difficult, if not impossible, to reach by transit. Several RTA bus routes serve the area and connect with the Blue Line at Van Aken, but access to the Van Aken station is relatively poor.

The study area already suffers from traffic congestion. The complicated six-legged Warrensville/Van Aken/Chagrin intersection, just east of the Blue Line terminus, is one of the most heavily used in Cuyahoga County, and one of the most congested. Chagrin Boulevard and other roadways in the study area also experience congestion during the morning and evening peak periods and at mid-day.

It is likely that without additional transportation investments, new development will add to traffic congestion. There is concern that the additional traffic will hurt the area's quality of life and future development potential. Some large planned development projects have no provisions for transit. There may be an opportunity to modify the planned development to maximize transit and land use efficiencies and to incorporate transit into the development plans at an early stage.

III. Alternatives

It is expected that the scoping meeting, stakeholder interviews, and written comments will be a major source of candidate alternatives for consideration in the study. The following describes the No-Build, Enhanced Bus/Transportation Systems Management (TSM), and Light Rail Transit Alternative that are suggested for consideration in the Blue Line Extension MIS:

1. No-Build Alternative—Existing and planned transit service and programmed new transportation facilities to the year 2020;

2. TSM Alternative—Changes in existing bus routes or new bus routes to provide better service and lower-cost transportation, roadway, and other improvements, such as bus prioritization at signalized intersections, and special bus lanes that would enhance the operation of the existing street and bus networks to help buses move faster.

3. Light Rail Alternative—Extension of the rail rapid transit Blue Line eastward from the existing Van Aken terminal station to the vicinity of I-271 via several alternative alignments using Chagrin Road or Northfield Road.

Based on public and agency input received during scoping, variations of the above alternatives and other transportation-related improvement options, both transit and non-transit, will be considered for the Blue Line Extension Corridor.

IV. Probable Effects

Issues and impacts to be considered during the study include potential changes to: the physical environment (air quality, noise, water quality, aesthetics, etc.); the social environment (land use, development, neighborhoods, etc.); parkland, cemeteries, and historic resources; transportation system performance; capital operating and maintenance costs; financial resources available and financial impact on the RTA. The entire Corridor is undergoing rapid development. The potential for Transit Oriented Development and the effect on existing public and private development agreements will be important. Vehicular/pedestrian circulation, parking and in-street operation of buses and streetcars are key considerations.

Evaluation criteria will include consideration of the local goals and objectives established for the study, measures of effectiveness identified during scoping, and criteria established by FTA for “New Start” transit projects.

Issued on: February 11, 2000.
Don Gismondi,
Deputy Regional Administrator.

[FR Doc. 00-3897 Filed 2-17-00; 8:45 am]

BILLING CODE 4910-57-P